DEPARTMENT OF TRANSPORTATION

Federal Aviation Administration

Notice of Extension of Public Comment Period for the Draft Programmatic Environmental Assessment for Drone Package Delivery Operations in the United States

AGENCY: Federal Aviation Administration (FAA), Department of Transportation (DOT).

ACTION: Draft programmatic environmental assessment; extension of public comment period.

SUMMARY: On December 9, 2025, the Federal Aviation Administration (FAA) published a notice of availability (NOA) in the Federal Register announcing a public comment period for the draft Programmatic Environmental Assessment (PEA) related to unmanned aircraft systems (UAS) (drone) package delivery operations in the United States. FAA is extending the comment period on the draft PEA. The FAA announces an extension of the public comment period until January 23, 2026.

DATES: The comment period for the notice published December 9, 2025, at 90 FR 57126, is extended. Comments must be received no later than January 23, 2026.

ADDRESSES: Comments may be submitted to 9-FAA-Drone-Environmental@faa.gov.

FOR FURTHER INFORMATION CONTACT: For questions concerning this action, contact AFS-700 Emerging Technologies Division, Office of Safety Standards, Flight Standards Service; email 9-FAA-Drone-Environmental@faa.gov.

SUPPLEMENTARY INFORMATION: Please refer to the NOA published in the Federal Register (90 FR 57126) on December 9, 2025, for further information. Comments already submitted in response to the December 9, 2025, NOA do not need to be resubmitted.

The original deadline for public comments was January 8, 2026. FAA has received a request to extend the comment period. FAA is therefore extending the deadline until January 23, 2026.

The draft PEA is submitted for public comment pursuant to the National Environmental Policy Act (NEPA) (42 United States Code [U.S.C.] 4321 et seq.); USDOT Order 5610.1D, DOT's Procedures for Considering Environmental Impacts; FAA Order 1050.1G, FAA National Environmental Policy Act Implementing Procedures; Section 4(f) of the Department of Transportation Act (49 U.S.C. 303); and Section 106 of the National Historic Preservation Act (54 U.S.C. 300101 et seq.) on December 1, 2025.

Before including your address, phone number, email address, or other personal identifying information in your comment, be advised that the entire comment—including personal identifying information—may be made publicly available at any time. While a commenter can ask the FAA to withhold from public review any personal identifying information, the FAA cannot guarantee that it will be able to do so.

The draft PEA is available to view and download electronically at: https://www.faa.gov/uas/advanced_operations/nepa_and_drones. The documentation is available from any internet access including from computers freely available at public libraries.

Issued in Washington, DC.
Derek W. Hufty,
Manager, General Aviation and Commercial Branch, Emerging Technologies Division, Office of Safety Standards, Flight Standards Service.

[FR Doc. 2025-24237 Filed 1-2-26; 8:45 am]

BILLING CODE 4910-13-P